DEPARTMENT OF AGRICULTURE

Food and Nutrition Service

Agency Information Collection Activities: Proposed Collection; Comment Request—Supplemental Nutrition Assistance Program—Disaster Supplemental Nutrition Assistance Program (D-SNAP)

AGENCY: Food and Nutrition Service, USDA.

ACTION: Notice.

SUMMARY: In accordance with the Paperwork Reduction Act of 1995, this notice invites the general public and other public agencies to comment on the planned information collection. This is a revision of a currently approved collection associated with requests by State agencies to operate a Disaster Supplemental Nutrition Assistance Program (D-SNAP) to temporarily provide food assistance to households following a disaster.

DATES: Written comments must be received on or before April 4, 2022.

ADDRESSES: Comments may be sent to: Certification Policy Branch, Program Development Division, Food and Nutrition Service, U.S. Department of Agriculture, 1320 Braddock Place, 5th Floor, Alexandria, VA 22314. Comments may also be submitted via email to SNAPCPBRules@usda.gov. Comments will also be accepted through the Federal eRulemaking Portal. Go to http://www.regulations.gov and follow the online instructions for submitting comments electronically. All responses to this notice will be summarized and included in the request for OMB approval. All comments will be a matter of public record.

FOR FURTHER INFORMATION CONTACT: Requests for additional information should be directed to the Certification Policy Branch at (703) 305-2022.

SUPPLEMENTARY INFORMATION: Comments are invited on: (a) Whether the proposed collection of information is necessary for the proper performance of the functions of the agency, including whether the information shall have practical utility; (b) the accuracy of the agency's estimate of the burden of the proposed collection of information including the validity of the methodology and assumptions used; (c) ways to enhance the quality, utility, and clarity of the information to be collected; (d) ways to minimize the burden of the collection of information on those who respond, including through the use of appropriate automated, electronic, mechanical, or other technological collection techniques or other forms of information technology.

Title: Disaster Supplemental Nutrition Assistance Program (D-SNAP).

Form: N/A.

OMB Number: 0584-0336.

Expiration Date: 10/31/2022.

Type of Request: Revision of a previously approved collection.

Abstract: Pursuant to § 412 of the Robert T. Stafford Disaster Relief and Emergency Assistance Act (42 U.S.C. 5179) and § 5(h)(1) the Food and Nutrition Act of 2008 (7 U.S.C. 2014(h)), the Secretary of Agriculture has the authority to establish a Disaster Supplemental Nutrition Assistance Program (D-SNAP), which is a temporary program that State agencies may operate to provide food assistance to households affected by disasters. D-SNAP is separate and distinct from the Supplemental Nutrition Assistance Program (SNAP) because it has different standards of eligibility, is operated for a limited duration, and only provides one month's worth of benefits to eligible households.

State agencies submit formal requests to operate D-SNAP to the Food and Nutrition Service (FNS) for approval and may only request to operate D-SNAP in areas that have received a Presidential Disaster Declaration with authorization for Individual Assistance, also known as an IA declaration, from the Federal Emergency Management Agency (FEMA). In their D-SNAP requests, State agencies outline their proposed procedures for conducting D-SNAP facility, designate the areas where they wish to operate, and provide sufficient supporting information. FNS reviews all D-SNAP requests and supporting information to ensure that all necessary requirements to operate D-SNAP are met. Using clearly defined FNS' criteria, FNS created a template for State agencies submit their D-SNAP requests electronically through the Waiver Information Management System (WIMS).

Once the original request to operate D-SNAP is approved by FNS to operate D-SNAP, State agencies will submit any subsequent request to modify or expand operations to newly eligible areas via WIMS to FNS for approval. These modification or expansion requests are typically reserved for when a large-scale disaster impacts different areas of a State in different ways or at different times. Subsequent modification and expansion requests require substantially less time to prepare than initial D-SNAP requests.

This information collection request contains only burden estimates associated with the State agency request to operate a D-SNAP. All burden imposed on State agencies and households associated with the certification of D-SNAP households performed by State agencies is approved under OMB Control Number 0584-0064 (SNAP Forms: Applications, Periodic Reporting, Notices; expiration date: 2/29/2024).

Burden for State reporting of both the D-SNAP data on the FNS-292A (Report of Commodity Distribution for Disaster Relief) and FNS-292B (Report of Disaster Supplemental Nutrition Assistance Benefit Issuance) are approved under two separate OMB Control Numbers. The recordkeeping burden for FNS-292A and FNS-292B is approved under OMB Control Number 0584-0037 (expiration date: 05/31/2024), and the reporting burden for the FNS-292A and FNS-292B is approved under OMB Control Number 0584-0594 (Food Programs Reporting System; expiration date: 07/31/2023). None of the burden activities for the other approved OMB control numbers cited in this notice have been outlined in this submission.

Because it is impossible to predict the number of natural disasters and extreme weather events that result in an IA declaration in a given year, and because some State agencies may find that operation of a D-SNAP is not warranted even upon receipt of an IA declaration, FNS is revising this burden estimate based on the annual average number of formal D-SNAP requests submitted and approved since this collection was last approved. From Federal Fiscal Year 2019 to 2021 an average of 5 State agencies requested and were approved to operate D-SNAP each year and an average of 2 State agencies requested and were approved for a modification or extension. The number of hours per response has not changed, but the estimated total burden hours has increased due to the higher number of State agency requests. The agency understands based on respondent threshold outlined in the Paperwork Reduction Act, 1995 FNS does not need to submit a request to OMB; however, to err on the side of caution, the agency is seeking OMB approval in case more than nine States need to submit D-SNAP requests, which will require the agency to seek OMB approval.

In light of this, we also understand seeking and obtaining OMB approval now will allow the agency to request a change justification for any modifications in the burden estimates due to increase of the number of State agency respondents rather than complete the entire full-blown OMB process again for any changes in burden estimates due to an increase in respondents.

Summary of Burden Hours

Affected Public: State agencies and local governments.

Estimated Total Annual Number of Respondents: 5. The total estimated number of respondents is 5. An average of 5 State agencies submit D-SNAP requests each year, and out of those original 5 State agencies, an average of 2 State agencies will submit subsequent requests to modify or expand those already approved D-SNAPs. Therefore, the agency is not double counting these 5 State agencies in our estimates.

Estimated Frequency of Responses per Respondents: 2.8. State agencies submit an average of 2 D-SNAP requests per year and average of 2 subsequent modification or expansion requests per year.

Estimated Total Annual Responses: 14.

Estimated Total Hours per Response: 8. Approximately 10 hours for State agency D-SNAP requests, and approximately 3 hours for each subsequent modification or expansion request.

Estimated Total Annual Burden on Respondents: 112.

Respondent | Estimated number of respondents | Responses annually per respondent | Total annual responses | Estimated avg. number of hours per response | Estimated total hours
State Agency—Submission of D-SNAP Request | 5 | 2 | 10 | 10 | 100
State Agency—Submission of D-SNAP modification or expansion request | 2 | 2 | 4 | 3 | 12
Total Reporting Burden | 5 | 2.8 | 14 | 8 | 112

Cynthia Long,
Administrator, Food and Nutrition Service.

[FR Doc. 2022-02002 Filed 1-31-22; 8:45 am]

BILLING CODE 3410-30-P